FEDERAL COMMUNICATIONS COMMISSION

47 CFR Part 74

[MB Docket Nos. 03-185, 22-261; FCC 22-58; FR ID 104610]

Establishing Rules for Digital Low Power Television and Television Translator Stations

AGENCY: Federal Communications Commission.

ACTION: Proposed rules.

SUMMARY: In this document, the Federal Communications Commission (Commission or FCC) seeks comment on adjustments to certain to reflect the current operating environment, including the termination of analog operations in the low power television (LPTV)/translator service as of July 13, 2021. This notice of proposed rulemaking (NPRM) seeks comment on certain amendments, including proposing to adopt rules previously applicable to analog operations for digital operations, updating geographic coordinates to the current North American Datum (NAD) standard, modifying station identification requirements, requiring LPTV stations to transmit with a virtual channel that avoids conflicts with other stations, updating the process for filing applications with the Commission, and making certain technical modifications.

DATES:

Comment date: October 24, 2022.

Reply comment date: November 7, 2022.

ADDRESSES: You may submit comments, identified by MB Docket Nos. 03-185, 22-261, FCC 22-58, by any of the following methods:

Federal Communications Commission's website: https://apps.fcc.gov/ecfs/. Follow the instructions for submitting comments.

Mail: Office of the Secretary, Federal Communications Commission, 45 L Street NE, Washington, DC 20554.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Joyce Bernstein, Media Bureau, at (202) 418-1647 or Joyce.Bernstein@fcc.gov.

SUPPLEMENTARY INFORMATION: Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

Paperwork Reduction Act of 1995 Analysis: This document proposes new or modified information collection requirements. The Commission, as part of its continuing effort to reduce paperwork burdens and pursuant to the Paperwork Reduction Act of 1995, Public Law 104-13, invites the general public and the Office of Management and Budget (OMB) to comment on these information collection requirements. In addition, pursuant to the Small Business Paperwork Relief Act of 2002, Public Law 107-198, see 44 U.S.C. 3506(c)(4), we seek specific comment on how we might further reduce the information collection burden for small business concerns with fewer than 25 employees.

Synopsis

Rules Applicable to LPTV/Translator Digital Operations

When the Commission initially adopted rules for digital LPTV/translators in 2004, it did not apply all of the part 74 rules to digital LPTV/translators but instead adopted eleven rules in 47 CFR 74.786 through 74.796 specifically for digital LPTV/Translator stations and identified in § 74.789 which of the part 74 rules applicable to analog LPTV/translator operations would also apply to digital LPTV/translator operations. Now that the LPTV/translator digital transition is completed, in order to maintain the status quo, we believe it is necessary and appropriate to apply the additional part 74 rules not specifically identified in § 74.789 to digital LPTV/translator operations, modified, as necessary for digital operations, and propose to eliminate the analog versions of those rules. We do not believe the transition to digital operation provides any basis to relieve LPTV/translator stations of these obligations and that their continued applicability is in the public interest. Specifically, we tentatively conclude that revised § 74.702(b), which describes LPTV/translator stations' secondary status with respect to a primary station's proposal to change the Table of TV Allotments, should apply to digital LPTV/translator stations, consistent with existing practice. In addition, §§ 74.702(a) and 74.786 reflect the same information pertaining to channel assignments. We tentatively conclude to retain the requirements in § 74.702(a) and delete § 74.786. Similarly, we tentatively conclude that § 74.750, regarding the certification of equipment, should continue to apply to digital LPTV/translator stations, with certain proposed changes designed to reflect the completion of the LPTV/translator analog to digital transition. We also tentatively conclude that, in order to ensure the orderly organization of our rules, we should move certain aspects of technical requirements contained in § 74.750(c) (paragraphs (c)(5) and (8)) to digital rule § 74.795(b)(6) and (7). We seek comment on these tentative conclusions and proposed rules. We further tentatively conclude that we should adopt and apply to digital LPTV/translator stations the following rules, each of which would track and replace corresponding rules that have previously applied to analog LPTV/translator stations, including: a new § 74.737 regarding antenna location, and a new § 74.762 regarding frequency measurements.

In conjunction with the changes proposed above, we also tentatively conclude that we should delete §§ 74.789 and 74.787(a)(5)(viii). We tentatively conclude that there is no need to have rules specifying which part 74 rules apply to digital LPTV/translators, as, with the elimination and proposed elimination of the analog rules, all rules in part 74 will apply to digital. We seek comment on this tentative conclusion.

LPTV/Translator Protection of Land Mobile Radio Service

As discussed above, § 74.709(a) and (b) of the Commission's rules require LPTV/translator stations to protect certain channels for use by land mobile radio systems (LMRS) in thirteen U.S. cities listed in the rule, which specifies a 130 kilometer radius from the coordinates for these cities as a threshold for determining interference. The 130 kilometer radius around each set of coordinates was calculated based on the 1927 North American Datum (“NAD 27”). As a result of improvements in technology and measuring capabilities, NAD 27 has been superseded by the 1983 North American Datum (“NAD 83”). The Commission's Office of Engineering and Technology (OET) and Office of the Managing Director have previously explained that “[g]eodetic datum is a set of constants specifying the coordinate system used for calculating the coordinates of points on the Earth. NAD 83 was developed based on satellite and remote-sensing measurement techniques, and provides greater accuracy than the older NAD 27.” Because it provides greater accuracy and the older NAD 27 is outdated, we propose to amend the rule to use NAD 83 for purposes of specifying these coordinates. We further tentatively conclude that updating the coordinates in the rule to NAD 83 would serve the public interest by conforming the values with the coordinate system used in the Commission's Licensing and Management System (LMS) database and with those found in § 90.303(b) of the rules, which define the service that § 74.709 protects. Section 90.303(b) defines the specific center points used to permit land mobile operations, which represent the specific locations that § 74.709(a) is designed to protect. See 47 CFR 90.303(a) (stating that “coordinates are referenced to the North American Datum 1983 (NAD83)”) and (b). As such, our proposal to conform the values in § 74.709(a) to those of § 90.303(b) would help to ensure that land mobile operations are appropriately considered and protected from LPTV/translator operations. There is no equivalent to § 74.709(b) in the part 90 rules, so we therefore propose to convert these values to NAD 83 by conforming them to the as-filed coordinates for the associated television station if the associated station still exists at the same location, or if it does not, converting them directly to NAD 83.

While we believe the coordinate updates proposed are in the public interest for the reasons discussed above, we do not anticipate that the proposed changes will alter the actual interference protection between LPTV/translator stations and LMRS. The coordinates in the rule are used only to determine whether an LPTV/translator application is outside of the relevant LMRS protected zone for the potentially affected channel and community. Section 74.703(e) separately requires the resolution of actual interference which may occur to land mobile operations. We seek comment on these tentative conclusions and proposed changes.

LPTV Digital Data Services Act

We propose to delete the rule requiring LPTV stations that avail themselves of the provisions set forth in the LPTV Digital Data Services Act (DDSA) digital data service pilot project to comply with rules implementing the DDSA. The DDSA mandated that the Commission issue regulations establishing a pilot project pursuant to which twelve specified LPTV stations could provide digital data services to demonstrate the feasibility of using LPTV stations to provide high-speed wireless digital data service, including internet access, to unserved areas. When the Commission implemented the DDSA in 2002, the Commission had not yet authorized Class A or LPTV/translator stations to operate digital facilities. The DDSA and § 74.785 of the rules therefore required the designated stations to comply with Commission rules that implemented the DDSA if they sought to participate in the digital pilot program. As previously noted, in 2004, the Commission authorized all LPTV/translator stations to operate in digital. Currently, all LPTV stations must operate in digital and may offer ancillary and supplementary services, including the services contained in the pilot project of the DDSA. See 47 CFR 74.790(i); 73.624(c) and (e). The Commission's ancillary and supplementary rules provide that broadcasters may offer services that “include, but are not limited to computer software distribution, data transmissions, teletext, interactive materials, aural messages, paging services, audio signals, subscription video, and any other services that do not derogate DTV broadcast stations' obligations under paragraph (b) of this section.” See 47 CFR 73.624(c). See also 47 CFR 74.790(i). One difference between the Commission's ancillary and supplementary rules and the DDSA is that the rules require that ancillary and supplementary services may not derogate the station's required signal to viewers, while the DDSA does not. We note that none of the stations identified in the statute are currently providing service pursuant to an experimental authorization issued under the DDSA, and that some of the stations have been cancelled. For these reasons, we believe that this rule currently serves no useful purpose. Therefore, we tentatively conclude that a rule requiring stations to comply with the Commission's order implementing the DDSA should be deleted, and we seek comment on those tentative conclusions.

Station Identification

Section 74.783(a) requires analog LPTV/translator stations not originating local programming to provide station identification. When the Commission adopted its rules for digital LPTV/translator operations in 2004, it declined to adopt a separate rule for digital stations, choosing instead to allow such LPTV/translator stations the flexibility to identify themselves in different manners, including following the analog station identification provisions in § 74.783(a). Now that the LPTV/translator digital transition is complete and analog operations have terminated, we tentatively conclude that we should require digital LPTV/translator stations to comply with the station identification provisions set forth in § 74.783 applicable to analog operations, which we now propose to update to reflect digital operations. We do not believe the transition to digital operation provides any basis to relieve LPTV/translator stations of the station identification obligation, and we believe the continued application of the established rule for station identification is in the public interest. We seek comment on these tentative conclusions and the proposed rule.

In addition, proposed § 74.783(a)(1) provides alternative methods for stations to identify their broadcasts over the air. In § 74.783(a)(1) and (c), we propose to include the option for LPTV/translator stations to use the Program and System Information Protocol (PSIP) to transmit the station's call sign as the “short channel name” on at least one stream of programming that the LPTV/translator station transmits. We seek comment on this proposed change.

We note that in order to identify a station using the PSIP short channel name, a station must request and be assigned a transport stream ID (TSID). If a station has requested and been assigned a TSID, we propose to require the LPTV/translator station to broadcast with the station's assigned TSID during its hours of operation. The TSID requirement would be in addition to, and not in place of, one of the other identification requirements. We propose the same requirement with respect to a station's bit stream ID (BSID), which has the same function as the TSID, but in the ATSC 3.0 context. We seek comment on these proposals.

We also seek comment on codifying the Media Bureau's (Bureau) practice of requiring LPTV stations to transmit with a virtual channel that avoids conflicts with any full power or Class A station's virtual channel in cases where a contour overlap would arise, or with virtual channels chosen by other LPTV stations. LPTV licensees are not required to comply with the virtual channel assignment methodology found in the Advanced Television Systems Committee's (ATSC) standard ATSC A/65C Annex B, as full power and Class A stations are, and we are not proposing to require them to do so. However, absent this rule change, LPTV stations could potentially create contour overlap with full power and Class A stations, leading to virtual channel conflicts.

Furthermore, we tentatively conclude that we should adopt § 74.791(d) to reflect the staff's current call sign assignment protocol for LPTV/translator stations. Section 74.783(d) provides that an LPTV/translator station call sign will be made up of the letters K or W, the station's channel number, and “two additional letters.” For certain channel numbers, however, all two letter combinations have been exhausted for several years, and consistent with the Commission's policy that all stations have a unique call sign, stations have been assigned a three letter call sign beginning with “AAA” continuing sequentially through the alphabet for the third letter. This three letter protocol is built into the Commission's LMS system. Considering the necessity of modifying the two letter protocol due to the exhaustion of such combinations, and the fact that any change would affect the staff's ability to continue timely processing applications, we tentatively conclude that we should amend § 74.791 to add paragraph (d) to reflect the staff's current call sign assignment protocol. We seek comment on these tentative conclusions.

Technical Modifications

Section 74.708(b) requires LPTV/translator stations to protect previously filed Class A applications, and § 74.710(a) requires LPTV/translator stations to protect previously filed LPTV/translator applications. These paragraphs reference the Bureau's practice that if two applications are filed on different days and otherwise have equal processing priority, the filing earlier in time will receive priority. We tentatively conclude that these requirements should be maintained in the rules but moved into the Commission's digital rules in § 74.787(c). We seek comment on this tentative conclusion.

Sections 74.735(c) and 74.750(f) of the rules reference vertically polarized transmitting antennas. We note that despite the reference, the Commission's LMS filing system does not and has not allowed stations to specify a vertical antenna. Further, television viewers' home receive antennas are generally horizontally, not vertically, polarized. Given these limitations, we propose to modify the language in § 74.735(c) and in revised § 74.750(f) to remove the reference to vertical-only antennas. We also propose to clarify, consistent with the similar rule applicable to full-power stations, that the horizontal power is to be higher than or equal to the vertical power in all directions, and require documentation that the antenna meets this requirement. We seek comment on these proposals.

Next, § 74.735(c)(4) currently requires that horizontal plane patterns be plotted “to the largest scale possible on unglazed letter-size polar coordinate paper.” This requirement is outdated and not consistent with current licensee and Commission staff practices. We propose to instead require licensees to submit patterns in the form of a .pdf attachment to an application filed in LMS, and propose to clarify that similar plots are required for elevation or matrix patterns submitted in the LMS form. This approach would provide flexibility to applicants and conform to modern practices. We seek comment on this proposal.

Section 74.751(b) permits a licensee to relocate facilities less than 500 feet (152.4 meters) without requesting prior authorization. The language of the rule, however, is in conflict with the Commission staff's standard processing practice, which is to require a licensee to file a minor modification application whenever a station seeks to relocate its antenna. OET Bulletin No. 69 (OET Bulletin) provides guidance on the use of Longley-Rice methodology for evaluating TV service coverage and interference in accordance with the Commission's rules. When the LPTV/translator stations were authorized for digital transmission in 2004, the rules permitted the use of the OET Bulletin, as opposed to contour analysis. Because the most precise antenna location provides the most accurate results when using the OET Bulletin, the staff has consistently required a minor modification application for all antenna relocations, and the industry has routinely submitted such minor modification applications. We propose to revise the language of the rule to reflect current staff practice and modify § 74.751(b)(4) to require LPTV/translator licensees and permittees to file an application in LMS on FCC Form 2100, Schedule C, requesting authorization for all station relocations. We seek comment on this proposal.

We also propose to delete two paragraphs of § 74.751 as irrelevant and unnecessary. Section 74.751(b)(6) permits relocation of a station's transmitter without authorization in only certain instances. Because the antenna location, rather than the transmitter location, is the relevant consideration in determining interference, service, and loss, as required by the Commission's rules and policies, we propose to delete § 74.751(b)(6) entirely regarding the transmitter's location, as it is not relevant in this analysis. Section 74.751(c) requires LPTV/translator licensees to notify the Commission in writing of any other equipment changes they make that are not specifically referenced in paragraphs (a) and (b) of this section. We do not believe this information is relevant to the Commission's application decision-making processes, and we note that staff does not routinely receive such notifications. Therefore we propose to delete the paragraph. We seek comment on these proposals.

Section 74.790(g)(3) provides that “LPTV station[s] must transmit an over-the-air video program signal at no direct charge to viewers at least comparable in resolution to that of its associated analog (NTSC) LPTV station or, in the case of an on-channel digital conversion, that of its former analog LPTV station.” We propose to update the quality standard set forth in the rule to reflect that 480i video resolution is “comparable in resolution to analog television programming,” consistent with the update the Commission made to its full power station rules in § 73.624(b). We seek comment on whether this proposed quality standard is an appropriate standard for LPTV stations, and whether there is any reason to have different standards for LPTV and full power stations. Furthermore, we tentatively conclude that the D/U ratios for ATSC 3.0 into TV and vice versa for predicting interference to stations are assumed to be similar, and need not be differentiated in the rules beyond TV service. We seek comment on this tentative conclusion.

Finally, certain rules specify the filing of a letter or similar submissions for relief with the Commission. We propose to update such rules to instead require submission in LMS, the Commission's broadcast licensing database. Doing so is consistent with current licensee and Commission staff practices for both LPTV/translators and full power licensees and permittees. Specifically, we propose to amend our rules to require LPTV/translator licensees and permittees to file written reports, submissions, letters, notifications, or other required filings in LMS. We believe that this proposed amendment is in the public interest because it will streamline application submission, processing, and record keeping, and provide a centralized location for public inspection of all licensing-related matters. We seek comment on these proposals.

Cost-Benefit and Diversity, Equity and Inclusion Analysis

Finally, we seek comment on the benefits and costs associated with adopting the proposals set forth in this NPRM. In addition to any benefits to the public at large, are there also benefits to industry through adoption of any of our proposals? We also seek comment on any potential costs that would be imposed on licensees, regulatees, and the public if we adopt the proposals contained in this NPRM. Comments should be accompanied by specific data and analysis supporting claimed costs and benefits.

As part of our continuing effort to advance digital equity for all, including people of color, persons with disabilities, persons who live in rural or Tribal areas, and others who are or have been historically underserved, marginalized, or adversely affected by persistent poverty or inequality, we invite comment on how the proposals set forth in this NPRM can advance equity in the provision of broadcast services for all people of the United States, without discrimination on the basis of race, color, religion, national origin, sex, or disability. Specifically, we seek comment on how our proposals may promote or inhibit advances in diversity, equity, inclusion, and accessibility, as well the scope of the Commission's relevant legal authority.

Initial Regulatory Flexibility Act Analysis

As required by the Regulatory Flexibility Act of 1980, as amended (RFA), pursuant to 5 U.S.C. 603, the Commission has prepared this Initial Regulatory Flexibility Act Analysis (IRFA) of the possible significant economic impact on a substantial number of small entities by the policies and rules proposed in this sixth notice of proposed rulemaking (NPRM). Written public comments are requested on this IRFA. Comments must be identified as responses to the IRFA and must be filed by the deadlines for comments specified in the DATES section of this NPRM. The Commission will send a copy of this NPRM, including this IRFA, to the Chief Counsel for Advocacy of the Small Business Administration (SBA). In addition, this NPRM and IRFA (or summaries thereof) will be published in the Federal Register.

Need for, and Objectives of, the Proposed Rules

This NPRM seeks comment on a number of proposals as part of the Commission's effort to update its rules following the termination of analog operations in the low power television (LPTV) and TV translator services. This NPRM proposes to adopt certain rules previously applicable to analog operations for digital operations.

This NPRM also proposes to delete the rule requiring LPTV stations that avail themselves of the provisions set forth in the LPTV Digital Data Services Act (DDSA) digital data service pilot project to comply with the Commission's rules implementing the DDSA.

Regarding LPTV/translator call signs, this NPRM proposes to amend the Commission's rules to account for the fact that with respect to some channel numbers, all two letter call sign combinations have been exhausted, and consistent with the Commission's policy that all stations have a unique call sign, this NPRM proposes to codify the current practice of assigning a three letter call sign beginning with “AAA” continuing sequentially through the alphabet for the third letter in such cases.

This NPRM seeks comment on updating the means by which stations may identify their broadcasts over the air. The Commission proposes to offer the option to place the call sign in the PSIP short channel name of at least one stream. Additionally, this NPRM seeks to mandate the broadcast of the station's assigned TSID (or BSID, which is the ATSC 3.0 functional equivalent), assuming one is assigned.

Consistent with current staff practice, this NPRM seeks comment on its proposal to require a minor modification application on FCC Form 2100, Schedule C, for all station relocations, including those under 500 feet. This NPRM also seeks comment on codifying the staff's practice of requiring LPTV stations to transmit with a virtual channel that avoids conflicts with any full power or Class A station's virtual channel in cases where a contour overlap would arise, or with virtual channels chosen by other LPTV stations. This NPRM also seeks comment on updating various filing requirements that currently specify submission by letter or other means to the FCC to instead require submission in the Commission's Licensing and Management System (LMS).

This NPRM also seeks comment on removing references in the rules to the use of vertical-only antennas, and to require that the horizontal power is higher than or equal to the vertical power in all directions. This NPRM also seeks to clarify what documentation is required when applications are submitted with various kinds of directional patterns.

This NPRM seeks comment on updating the coordinates found throughout § 74.709 from NAD 27 to NAD 83 and otherwise conforming the values in § 74.709(a) with those found in § 90.303. These coordinates are used only to determine where the Commission will or will not grant applications. Section 74.703(e) still requires the resolution of actual interference, so the proposed adjustments to § 74.709(a) will not change the required amount of interference protection between LPTV/translator stations and land mobile operations.

Finally, this NPRM proposes to update the quality standard set forth in § 74.790(g)(3) to reflect that 480i video resolution is “comparable in resolution to analog television programming,” consistent with the update the Commission made to its full power station rules.

Legal Basis

The proposed action is authorized under sections 1, 4, 301, 303, 307, 308, 309, 310, 316, 319, and 336 of the Communications Act of 1934, as amended, 47 U.S.C. 151, 154, 301, 303, 307, 308, 309, 310, 316, 319, 336.

Description and Estimate of the Number of Small Entities to Which the Proposed Rules Will Apply

The RFA directs agencies to provide a description of, and where feasible, an estimate of the number of small entities that may be affected by the proposed rule revisions, if adopted. The RFA generally defines the term “small entity” as having the same meaning as the terms “small business,” “small organization,” and “small governmental jurisdiction.” In addition, the term “small business” has the same meaning as the term “small business concern” under the Small Business Act (SBA). A small business concern is one which: (1) is independently owned and operated; (2) is not dominant in its field of operation; and (3) satisfies any additional criteria established by the SBA. Below, we provide a description of such small entities, as well as an estimate of the number of such small entities, where feasible.

Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. The 2017 U.S. Census Bureau data indicate that 744 firms in this industry operated for the entire year. Of that number, 657 firms had revenue of less than $25,000,000. Based on this data we estimate that the majority of television broadcasters are small entities under the SBA small business size standard.

The Commission estimates that as of March 2022, there were 1,373 licensed commercial television stations. Of this total, 1,280 stations (or 93.2%) had revenues of $41.5 million or less in 2021, according to Commission staff review of the BIA Kelsey Inc. Media Access Pro Television Database (BIA) on June 1, 2022, and therefore these licensees qualify as small entities under the SBA definition. In addition, the Commission estimates as of March 2022, there were 384 licensed noncommercial educational (NCE) television stations, 383 Class A TV stations, 1,840 LPTV stations and 3,231 TV translator stations. The Commission however does not compile, and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

The Commission estimates that as of September 2021, there were 4,519 licensed commercial AM radio stations, 6,682 licensed commercial FM radio stations and 4,211 licensed noncommercial (NCE) FM radio stations. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

Description of Projected Reporting, Recordkeeping, and Other Compliance Requirements

The Commission seeks comment on whether stations should be able to now make certain required notifications through filings procedures in LMS as opposed to by letter, as has been the case. In addition, the Commission tentatively concludes it will modify § 74.751(b)(4) to require LPTV/translator licensees and permittees to file a minor modification application requesting authorization for all station relocations, including those less than 500 feet (152.4 meters). In past practice, the staff has not permitted stations to move to another tower that is less than 500 feet away from its current location without filing a minor modification application—this rule change would codify the staff's current practice. Should the Commission ultimately decide to adopt these requirements, they would result in a modified paperwork obligation. If adopted, the Commission will seek approval and the corresponding burdens to account for this modified reporting requirement.

Steps Taken To Minimize Significant Economic Impact on Small Entities, and Significant Alternatives Considered

The RFA requires an agency to describe any significant alternatives that it has considered in reaching its proposed approach, which may include the following four alternatives (among others): (1) the establishment of differing compliance or reporting requirements or timetables that take into account the resources available to small entities; (2) the clarification, consolidation, or simplification of compliance or reporting requirements under the rule for small entities; (3) the use of performance, rather than design, standards; and (4) an exemption from coverage of the rule, or any part thereof, for small entities. See 5 U.S.C. 603(c).

This NPRM seeks comment on a number of proposals that would codify the staff's current practices or better reflect technological advancements in the industry. For example, this NPRM seeks comment on codifying the staff's practice of requiring LPTV stations that voluntarily transmit with a virtual channel to choose one that avoids conflicts with any full-power or Class A station's virtual channel in cases where a contour overlap would arise, or with virtual channels chosen by other LPTV stations. Moreover, this NPRM proposes removing references in the rules to the use of vertical-only antennas, and requires that the horizontal power is higher than or equal to the vertical power in all directions, consistent with the requirements for full-power stations. These proposals are an attempt to simplify, streamline, and modernize existing rules and procedures that will enable LPTV stations to more easily comply with licensing requirements through familiar and low cost measures.

This NPRM also seeks comment on updating the coordinates in § 74.709 from NAD 27 to NAD 83 in order to conform the values with those found in part 90 of the Commission's rules. These coordinates are used only to determine whether the Commission will or will not grant applications. Section 74.703(e) still requires the resolution of actual interference, and so the Commission would not need to balance the interference protection afforded to land mobile operation with the updated, streamlined benefits for small entities as a result of this proposal.

Further, this NPRM seeks comment on updating various filing requirements that currently specify submission by letter or other means to the FCC to instead require submission in LMS. The Commission anticipates that this option will lessen the physical burden on small entities. The Commission will have to consider the benefits and costs of allowing LPTV stations to submit certain notifications in LMS.

Federal Rules That May Duplicate, Overlap, or Conflict With the Proposed Rule

None.

Report to Congress

The Commission will send a copy of this NPRM including the IRFA, in a report to be sent to Congress pursuant to the Congressional Review Act. In addition, the Commission will send a copy of the NPRM including the IRFA, to the Chief Counsel for Advocacy of the SBA. A copy of this NPRM and IRFA (or summaries thereof) will also be published in the Federal Register.

List of Subjects in 47 CFR Part 74

Low power TV, TV translator stations.

Federal Communications Commission
Marlene Dortch,
Secretary.

Proposed Regulations

For the reasons discussed in the preamble, the Federal Communications Commission proposes to amend 47 CFR part 74 as follows:

PART 74—EXPERIMENTAL RADIO, AUXILIARY, SPECIAL BROADCAST AND OTHER PROGRAM DISTRIBUTIONAL SERVICES

1. The authority citation for part 74 continues to read as follows:

Authority: 47 U.S.C. 154, 302a, 303, 307, 309, 310, 325, 336 and 554.

2. Section 74.702 is amended by revising paragraph (b) to read as follows:

§ 74.702 Channel assignments.

* * * * *

(b) Changes in the Table of TV Allotments (§ 73.622(j) of this chapter), authorizations to construct new full power television stations or to authorizations to change facilities of existing such stations, may be made without regard to existing or proposed low power TV or TV translator stations. Where such a change results in a low power TV or TV translator station causing actual interference to reception of the full power television station, the licensee or permittee of the low power TV or TV translator station shall eliminate the interference or file an application for a change in channel assignment pursuant to § 73.3572 of this chapter.

* * * * *

3. Section 74.703 is amended by revising paragraph (h) to read as follows:

§ 74.703 Interference.

* * * * *

(h) In each instance where suspension of operation is required, the licensee shall submit a full report to the FCC after operation is resumed containing details of the nature of the interference, the source of the interfering signals, and the remedial steps taken to eliminate the interference. This report shall be filed via a Resumption of Operations notice in the FCC's Licensing and Management System (LMS).

* * * * *

§ 74.708 [Removed and Reserved]

4. Remove and reserve § 74.708.

5. Section 74.709 is amended by revising the tables in paragraphs (a) and (b)(2) to read as follows:

§ 74.709 Land mobile station protection.

(a) * * *

Table 1 to Paragraph (a)
City | Channels | Coordinates: Latitude | Coordinates: Longitude
Boston, MA | 14, 16 | 42°21′24.4″ | 071°03′23.2″
Chicago, IL | 14, 15 | 41°52′28.1″ | 087°38′22.2″
Cleveland, OH | 14, 15 | 41°29′51.2″ | 081°49′49.5″
Dallas, TX | 16 | 32°47′09.5″ | 096°47′38″
Detroit, MI | 15, 16 | 42°19′48.1″ | 083°02′56.7″
Houston, TX | 17 | 29°45′26.8″ | 095°21′37.8″
Los Angeles, CA | 14, 16, 20 | 34°03′15″ | 118°14′31.3″
Miami, FL | 14 | 25°46′38.4″ | 080°11′31.3″
New York, NY | 14, 15, 16 | 40°45′06.4″ | 073°59′37.5″
Philadelphia, PA | 19, 20 | 39°56′58.4″ | 075°09′19.6″
Pittsburgh, PA | 14, 18 | 40°26′19.2″ | 079°59′59.2″
San Francisco, CA | 16, 17 | 37°46′38.7″ | 122°24′43.9″
Washington, DC | 17, 18 | 38°53′51.4″ | 077°00′31.9″

(b) * * *

(2) * * *

Table 2 to Paragraph (b)(2)
City | Channel | Coordinates: Latitude | Coordinates: Longitude
San Diego, CA | 15 | 32°41′52.7″ | 116°56′06.3″
Waterbury, CT | 20 | 41°31′02.3″ | 073°00′58.4″
Washington, DC | 14 | 38°57′17.4″ | 077°00′15.9″
Washington, DC | 20 | 38°57′49.9″ | 077°06′17.2″
Champaign, IL | 15 | 40°04′10″ | 087°54′46″
Jacksonville, IL | 14 | 39°45′52.1″ | 090°30′29.5″
Ft. Wayne, IN | 15 | 41°05′35.2″ | 085°10′41.9″
South Bend, IN | 16 | 41°36′20″ | 086°12′46″
Salisbury, MD | 16 | 38°24′15.4″ | 075°34′43.7″
Mt. Pleasant, MI | 14 | 43°34′24.1″ | 084°46′21″
Hanover, NH | 15 | 43°42′30.2″ | 072°09′14.3″
Canton, OH | 17 | 40°51′04.2″ | 081°16′36.4″
Cleveland, OH | 19 | 41°21′19.2″ | 081°44′23.5″
Oxford, OH | 14 | 39°30′26.2″ | 084°44′08.8″
Zanesville, OH | 18 | 39°55′42″ | 081°59′07″
Elmira-Corning, NY | 18 | 42°06′22″ | 076°52′16″
Harrisburg, PA | 21 | 40°20′43.1″ | 076°52′08.3″
Johnstown, PA | 19 | 40°19′47.3″ | 078°53′44.1″
Lancaster, PA | 15 | 40°15′45″ | 076°27′50″
Philadelphia, PA | 17 | 40°02′30.9″ | 075°14′21.9″
Pittsburgh, PA | 16 | 40°26′46.2″ | 079°57′50.2″
Scranton, PA | 16 | 41°10′58.3″ | 075°52′19.7″
Parkersburg, WV | 15 | 39°20′59.8″ | 081°33′55.4″
Madison, WI | 15 | 43°03′03″ | 089°29′13″

* * * * *

§ 74.710 [Removed and Reserved]

6. Remove and reserve § 74.710.

7. Section 74.734 is amended by revising the first sentence of paragraph (a)(4) to read as follows:

§ 74.734 Attended and unattended operation.

(a) * * *

(4) A notification must be filed with the FCC via a Change of Control Point Notice in LMS providing the name, address, and telephone number of a person or persons who may be called to secure suspension of operation of the transmitter promptly should such action be deemed necessary by the FCC. * * *

* * * * *

8. Section 74.735 is amended by revising the first and second sentences of paragraphs (c) introductory text and (c)(2) and paragraph (c)(4) and adding paragraphs (c)(6) and (7) to read as follows:

§ 74.735 Power limitations.

* * * * *

(c) The limits in paragraph (b) of this section apply to the effective radiated power in the horizontally polarized plane. For either omnidirectional or directional antennas, where the ERP values of the vertically and horizontally polarized components are not of equal strength, the ERP limits shall apply to the horizontal polarization, and the vertical ERP shall not exceed the horizontal ERP in any direction. * * *

(2) Relative field horizontal plane pattern (patterns for both horizontal and vertical polarization should be included if elliptical or circular polarization is used) of the proposed directional antenna. A value of 1.0 should be used for the maximum radiation in the horizontal polarization. * * *

* * * * *

(4) All horizontal plane patterns must be plotted in a PDF attachment to the application in a size sufficient to be easily viewed.

* * * * *

(6) If an elevation pattern is submitted in the application form, similar tabulations and PDF attachments shall be provided for the elevation pattern.

(7) If a matrix pattern is submitted in the application form, similar tabulations and PDF attachments shall be provided as necessary to accurately represent the pattern.

9. Revise § 74.737 to read as follows:

§ 74.737 Antenna location.

(a) An applicant for a new low power TV or TV translator station or for a change in the facilities of an authorized station shall endeavor to select a site that will provide a line-of-sight transmission path to the entire area intended to be served and at which there is available a suitable signal from the primary station, if any, that will be retransmitted.

(b) The transmitting antenna should be placed above growing vegetation and trees lying in the direction of the area intended to be served, to minimize the possibility of signal absorption by foliage.

(c) A site within 8 kilometers of the area intended to be served is to be preferred if the conditions in paragraph (a) of this section can be met.

(d) Consideration should be given to the accessibility of the site at all seasons of the year and to the availability of facilities for the maintenance and operation of the transmitting equipment.

(e) The transmitting antenna should be located as near as is practical to the transmitter to avoid the use of long transmission lines and the associated power losses.

(f) Consideration should be given to the existence of strong radio frequency fields from other transmitters at the site of the transmitting equipment and the possibility that such fields may result in the retransmissions of signals originating on frequencies other than that of the primary station being rebroadcast.

10. Revise § 74.750 to read as follows:

§ 74.750 Transmission system facilities.

(a) A low power TV or TV translator station shall operate with a transmitter that is either certificated for licensing under the provisions of this subpart or type notified for use under part 73 of this chapter.

(b) External preamplifiers also may be used provided that they do not cause improper operation of the transmitting equipment, and use of such preamplifiers is not necessary to meet the provisions of § 74.795(b).

(c)-(d) [Reserved]

(e) The following procedures shall apply:

(1) Any manufacturer of apparatus intended for use at low power TV or TV translator stations may request certification by following the procedures set forth in part 2, subpart J, of this chapter.

(2) Low power TV and TV translator transmitting apparatus that has been certificated by the FCC will normally be authorized without additional measurements from the applicant or licensee.

(3) Applications for certification of modulators to be used with existing certificated TV translator apparatus must include the specifications electrical and mechanical interconnecting requirements for the apparatus with which it is designed to be used.

(4) Other rules concerning certification, including information regarding withdrawal of type acceptance, modification of certificated equipment, and limitations on the findings upon which certification is based, are set forth in part 2, subpart J, of this chapter.

(f) The transmitting antenna system may be designed to produce horizontal, elliptical, or circular polarization.

(g) Low power TV or TV translator stations installing new certificated transmitting apparatus incorporating modulating equipment need not make equipment performance measurements and shall so indicate on the station license application. Stations adding new or replacing modulating equipment in existing low power TV or TV translator station transmitting apparatus must have a qualified person examine the transmitting system after installation. A report of the methods, measurements, and results must be kept in the station records. However, stations installing modulating equipment solely for the limited local origination of signals permitted by § 74.790 need not comply with the requirements of this paragraph (g).

11. Section 74.751 is amended by:

a. Revising paragraph (b)(4); and

b. Removing and reserving paragraphs (b)(6) and (c).

The revision reads as follows:

§ 74.751 Modification of transmission systems.

* * * * *

(b) * * *

(4) Any horizontal change of the location of the antenna.

* * * * *

12. Revise § 74.762 to read as follows:

§ 74.762 Frequency measurements.

(a) The licensee of a low power TV station or a TV translator station must measure the frequency of its output channel as often as necessary to ensure operation consistent with the Advanced Television Systems Committee (ATSC) standard (see § 73.682 of this chapter), and at least once each calendar year at intervals not exceeding 14 months.

(b) In the event that a low power TV or TV translator station is found to be operating inconsistent with the standard in paragraph (a) of this section, the licensee promptly shall suspend operation of the transmitter and shall not resume operation until transmitter has been restored to its assigned frequency.

13. Section 74.763 is amended by revising paragraph (b) to read as follows:

§ 74.763 Time of operation.

* * * * *

(b) In the event that causes beyond the control of the low power TV or TV translator station licensee make it impossible to continue operating, the licensee may discontinue operation for a period of not more than 30 days without further authority from the FCC. Notification must be sent to the FCC via a Suspension of Operations Notice filing in LMS, not later than the 10th day of discontinued operation. During such period, the licensee shall continue to adhere to the requirements in the station license pertaining to the lighting of antenna structures. In the event normal operation is restored prior to the expiration of the 30 day period, the FCC shall be notified via a Resumption of Operations Notice filing in LMS of the date normal operations resumed. If causes beyond the control of the licensee make it impossible to comply within the allowed period, a request for Special Temporary Authority (see § 73.1635 of this chapter) shall be made to the FCC no later than the 30th day for such additional time as may be deemed necessary via LMS.

* * * * *

14. Revise § 74.783 to read as follows:

§ 74.783 Station identification.

(a) Each low power TV and TV translator station not originating local programming as defined by § 74.701(h) must transmit its station identification as follows:

(1) By transmitting the call sign in the short channel name field of the Program and System and Information Protocol (PSIP) (or its ATSC 3.0 equivalent) for at least one stream on the station; or

(2) By arranging for the primary station, whose signal is being rebroadcast, to identify the translator station by transmitting an easily readable visual presentation or a clearly understandable aural presentation of the translator station's call letters and location. Two such identifications shall be made between 7 a.m. and 9 a.m. and 3 p.m. and 5 p.m. each broadcast day at approximately one hour intervals during each time period. Television stations which do not begin their broadcast day before 9 a.m. shall make these identifications in the hours closest to these time periods at the specified intervals.

(b) Licensees of television translators whose station identification is made by the television station whose signals are being rebroadcast by the translator, must secure agreement with this television station licensee to keep in its file, and available to FCC personnel, the translator's call letters and location, giving the name, address, and telephone number of the licensee or his service representative to be contacted in the event of malfunction of the translator. It shall be the responsibility of the translator licensee to furnish current information to the television station licensee for this purpose.

(c) A low power TV station shall comply with the station identification procedures given in § 73.1201 of this chapter when locally originating programming, as defined by § 74.701(h), on its primary stream. Other streams may use the method in paragraph (a)(1) of this section. The identification procedures given in paragraphs (a) and (b) of this section are to be used at all other times.

(d) Transport Stream ID (TSID) values are identification numbers assigned to stations by the FCC and stored in the Commission's online database. Two sequential values are assigned to each station.

(1) All low power TV stations shall transmit their assigned odd-numbered TSID, if one has been assigned. All TV translator stations shall transmit their assigned odd-numbered TSID, if one has been assigned, or else the assigned TSID of the originating station if one has not been assigned to the TV translator station.

(2) In ATSC 3.0, a similar value is used called a Bit Stream ID (BSID). LPTV/translator stations operating in ATSC 3.0 mode shall utilize their assigned even-numbered TSID as their BSID, and transmit it as otherwise required in paragraph (d)(1) of this section.

15. Section 74.784 is amended by revising paragraph (b) to read as follows:

§ 74.784 Rebroadcasts.

* * * * *

(b) The licensee of a low power TV or TV translator station shall not rebroadcast the programs of any other TV broadcast station or other station authorized under the provisions of this subpart without obtaining prior consent of the station whose signals or programs are proposed to be retransmitted. The FCC shall be notified of the call letters of each station rebroadcast, and the licensee of the low power TV or TV broadcast translator station shall certify it has obtained written consent from the licensee of the station whose programs are being retransmitted. This notification shall be provided by email to TVRebroadcast@fcc.gov, the Video Division's email box.

* * * * *

§ 74.785 [Removed and Reserved]

16. Remove and reserve § 74.785.

§ 74.786 [Removed and Reserved]

17. Remove and reserve § 74.786.

18. Section 74.787 is amended by removing paragraph (a)(5)(viii) and adding paragraph (c) to read as follows:

§ 74.787 Licensing.

* * * * *

(c) Licensing. An application to construct a new low power TV or TV translator station or change the facilities of an existing station will not be accepted if it fails to protect an authorized Class A, low power TV, or TV translator station or an application for such a station filed prior to the date the low power TV or TV translator application is filed.

§ 74.789 [Removed and Reserved]

19. Remove and reserve § 74.789.

20. Section 74.790 is amended by revising paragraph (g)(3) and adding paragraph (n) to read as follows:

§ 74.790 Permissible service of TV translator and LPTV stations.

* * * * *

(g) * * *

(3) Whenever operating, an LPTV station must transmit at least one over-the-air video program signal at no direct charge to viewers at a resolution of at least 480i (vertical resolution of 480 lines, interlaced).

* * * * *

(n) An LPTV station shall transmit at least the minimum Program System and Information Protocol (PSIP) information necessary for receivers to display the station's programming. The station is not required to utilize any specific virtual channel number but must avoid creating a contour overlap with any full power TV or Class A TV station's virtual channel or creating a contour overlap with another LPTV station using the same virtual channel.

21. Section 74.791 is amended by adding paragraph (d) to read as follows:

§ 74.791 Call signs.

* * * * *

(d) Call sign protocol. The use of the initial letter generally will follow the pattern used in the broadcast service, i.e., stations west of the Mississippi River will be assigned an initial letter K and those east, the letter W. The two letter combinations following the channel number will be assigned in order, and requests for the assignment of the particular combinations of letters will not be considered. The channel number designator for Channels 2 through 9 will be incorporated in the call sign as a 2-digit number, i.e., 02, 03, etc., so as to avoid similarities with call signs assigned to amateur radio stations. In the event that the two letter combination following the channel numbers reaches ZZ, the next subsequent call sign shall have three letters, beginning with AAA.

22. Section 74.795 is amended by:

a. Removing “and” at the end of paragraph (b)(4);

b. Removing the period at the end of paragraph (b)(5) and adding “; and” in its place; and

c. Adding paragraphs (b)(6) and (7).

The additions read as follows:

§ 74.795 Low power TV and TV translator transmission system facilities.

* * * * *

(b) * * *

(6) The apparatus must be equipped with automatic controls that will place it in a non-radiating condition when no signal is being received on the input channel, either due to absence of a transmitted signal or failure of the receiving portion of the facilities used for rebroadcasting the signal of another station. The automatic control may include a time delay feature to prevent interruptions caused by fading or other momentary failures of the incoming signal; and

(7) Wiring, shielding, and construction shall be in accordance with accepted principles of good engineering practice.

* * * * *

[FR Doc. 2022-20293 Filed 9-22-22; 8:45 am]

BILLING CODE 6712-01-P